DEPARTMENT OF COMMERCE

National Oceanic and Atmospheric Administration

RIN 0648-XC308

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a webinar of the Standing and Special Reef Fish Scientific and Statistical Committees (SSC).

DATES: The webinar will convene at 1 p.m. on Thursday, November 8, 2012 and will conclude approximately 5 p.m.

ADDRESSES: The meeting will be held via webinar and is accessible by computers (Windows or Mac), or by iPhone, iPad, or Android device with the GoToMeeting app available from the App Store or Google Play. A registration link to sign up for the webinar will be available on the Council Web site.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The Standing and Special Reef Fish SSC will meet jointly via webinar on Thursday, November 8, 2012 to review an analysis of this year's red snapper overharvest. Under a rule published on May 30, 2012 [77 FR 31734] the acceptable biological catch (ABC) for red snapper was set at 8.080 million pounds for 2012 and 8.690 million pounds for 2013, with 51 percent of the ABC allocated to a commercial quota and 49 percent to a recreational quota. The increase in the ABC 2013 was contingent upon the stock ABC not being exceeded in 2012. If the stock ABC was exceeded in 2012, the stock ABC and sector quotas would remain at the 2012 levels unless the best scientific information available determines maintaining the quotas from the previous year is unnecessary. Preliminary estimates indicate that the 2012 recreational red snapper quota (3.959 mp) will be exceeded by 440,000-840,000 pounds, which will result in the 2012 ABC being exceeded. As a result, the National Marine Fisheries Service Southeast Fisheries Science Center will evaluate the effect of this overharvest on the red snapper rebuilding plan. Based on the results of the analysis, the SSC will determine whether the 2013 ABC can be increased to its original level, to a different level, or should remain at the 2012 level.

Copies of the agenda and other related materials can be obtained by calling (813) 348-1630 or can be downloaded from the Council's ftp site, ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Dated: October 18, 2012.
Tracey L. Thompson,
Acting Deputy Director, Office of Sustainable Fisheries, National Marine Fisheries Service.

[FR Doc. 2012-26128 Filed 10-23-12; 8:45 am]

BILLING CODE 3510-22-P